DEPARTMENT OF AGRICULTURE

Animal and Plant Health Inspection Service

7 CFR Parts 300 and 319

[Docket No. 00-006-1]

Importation of Fruits and Vegetables

AGENCY: Animal and Plant Health Inspection Service, USDA.

ACTION: Proposed rule.

SUMMARY: We are proposing to amend the fruits and vegetables regulations to list a number of fruits and vegetables from certain parts of the world as eligible, under specified conditions, for importation into the United States. All of the fruits and vegetables, as a condition of entry, would be inspected and subject to disinfection at the port of first arrival as may be required by a U.S. Department of Agriculture inspector. In addition, some of the fruits and vegetables would be required to be treated or meet other special conditions. This action would provide the United States with additional kinds and sources of fruits and vegetables while continuing to provide protection against the introduction of injurious plant pests by imported fruits and vegetables.

We are also proposing to recognize the State of Baja California Sur, Mexico, as an area free of certain fruit flies and recognize Belize and the Department of Petén, Guatemala, as areas free of the Mediterranean fruit fly. This action would relieve import restrictions while continuing to prevent the introduction of plant pests into the United States.

DATES: We will consider all comments that we receive by October 20, 2000.

ADDRESSES: Please send your comment and three copies to: Docket No. 00-006-1, Regulatory Analysis and Development, PPD, APHIS, Suite 3C03, 4700 River Road, Unit 118, Riverdale, MD 20737-1238.

Please state that your comment refers to Docket No. 00-006-1.

You may read any comments that we receive on this docket in our reading room. The reading room is located in room 1141 of the USDA South Building, 14th Street and Independence Avenue, SW., Washington, DC. Normal reading room hours are 8 a.m. to 4:30 p.m., Monday through Friday, except holidays. To be sure someone is there to help you, please call (202) 690-2817 before coming.

APHIS documents published in the Federal Register, and related information, including the names of organizations and individuals who have commented on APHIS dockets, are available on the Internet at http://www.aphis.usda.gov/ppd/rad/webrepor.html.

FOR FURTHER INFORMATION CONTACT: Donna L. West, Import Specialist, Phytosanitary Issues Management Team, PPQ, APHIS, 4700 River Road Unit 140, Riverdale, MD 20737-1236; (301) 734-6799.

SUPPLEMENTARY INFORMATION:

Background

The regulations in 7 CFR 319.56 through 319.56-8 (referred to below as “the regulations”) prohibit or restrict the importation of fruits and vegetables into the United States from certain parts of the world to prevent the introduction and dissemination of fruit flies and other injurious plant pests that are new to or not widely distributed within the United States.

We are proposing to amend the regulations to list a number of fruits and vegetables from certain parts of the world as eligible, under specified conditions, for importation into the United States. We are proposing this action at the request of various importers and foreign ministries of agriculture, and after conducting pest risk analyses ¹ that indicate the fruits or vegetables can be imported under certain conditions without significant pest risk.

¹ Information on these pest risk analyses and any other pest risk analysis referred to in this document may be obtained by writing to the person listed under FOR FURTHER INFORMATION CONTACT.

All of the fruits and vegetables included in this document would have to be imported under permit and would be subject to the requirements in § 319.56-6 of the regulations. Section 319.56-6 provides, among other things, that all imported fruits and vegetables, as a condition of entry, shall be inspected, and shall be subject to such disinfection at the port of first arrival as may be required by a U.S. Department of Agriculture (USDA) inspector, to detect and eliminate plant pests. Section 319.56-6 also provides that any shipment of fruits and vegetables may be refused entry if the shipment is so infested with fruit flies or other injurious plant pests that an inspector determines that it cannot be cleaned or treated.

Some of the fruits and vegetables proposed for importation would be required to meet other special conditions. The proposed conditions of entry, which are discussed in greater detail below, appear adequate to prevent the introduction and dissemination of fruit flies and other injurious plant pests by the importation of these fruits and vegetables.

Subject to Inspection Upon Arrival

We are proposing to amend the list in § 319.56-2t to recognize the following fruits and vegetables as eligible for importation into the United States from the country or locality indicated in accordance with § 319.56-6 and all other applicable requirements of the regulations:

Country/locality | Common name | Botanical name | Plant part(s)
Argentina | Marjoram | Origanum spp. | Above ground parts.
| Oregano | Origanum spp. | Above ground parts.
Costa Rica | Cole and mustard crops, including cabbages, broccoli, cauliflower, turnips, mustards, and related varieties | Brassica spp. | Whole plant of edible varieties only.
Honduras | Cole and mustard crops, including cabbages, broccoli, cauliflower, turnips, mustards, and related varieties | Brassica spp. | Whole plant of edible varieties only.
Peru | Marjoram | Origanum spp. | Above ground parts.
Spain | Eggplant | Solanum melongena | Fruit, commercial shipments only.
| Watermelon | Citrullus vulgaris | Fruit, commercial shipments only.

We have determined that any injurious plant pests that might be carried by any of the listed fruits or vegetables would be readily detectable by an APHIS inspector. Therefore, the provisions at § 319.56-6 concerning inspection and disinfection at the port of first arrival appear adequate to prevent the introduction into the United States of injurious plant pests by the importation of these fruits and vegetables as specified above. However, we believe that eggplant and watermelon from Spain that are not produced in commercial operations are more likely to be infested with plant pests than are eggplant and watermelon that arrive in commercial shipments. Therefore, to further reduce the pest risk associated with the importation of eggplant and watermelon from Spain, we are proposing to allow only commercial shipments of those fruits and vegetables to enter the United States. Commercial shipments, as defined in § 319.56-1, are shipments of fruits and vegetables that an inspector identifies as having been produced for sale and distribution in mass markets. Such identification is based on a variety of indicators, including, but not limited to: quantity of produce, type of packaging, identification of grower or packing house on the packaging, and documents consigning the shipment to a wholesaler or retailer.

Wild or “backyard” eggplant and watermelon are generally grown and handled under very different conditions in Spain than commercially-produced fruits and vegetables (e.g., wild or backyard produce usually involves different varieties of produce and different cultivating techniques, little or no pest control, and a lack of sanitary controls during growing and packing, such as removal and destruction of overripe and damaged fruit). As a result, there is reason to believe that wild or backyard eggplant and watermelon present a greater pest risk than commercially produced eggplant and watermelon.

Treatment Required

Section 319.56-2x lists fruits and vegetables for which treatment is required. We are proposing to amend the list in § 319.56-2x to allow the following fruits and vegetables to be imported into the United States from the country or locality indicated only if they have been treated in accordance with the PPQ Treatment Manual, which is incorporated by reference into the Code of Federal Regulations at 7 CFR 300.1. These fruits and vegetables are attacked by injurious plant pests, as specified below, in their country or locality of origin. We inspect these commodities for some identified pests and treat commodities for pests that cannot be detected by visual inspection. We would amend the PPQ Treatment Manual to show the required treatments.

Country/locality | Common name | Botanical name | Plant part(s) | Treatment (see table below) | Pests of concern
Argentina | Kiwi | Actinidia deliciosa | Fruit | Cold treatment | Anastrepha fraterculus and Ceratitis capitata
Chile | Passion fruit | Passiflora spp. | Fruit | Soapy water and wax treatment | Brevipalpus chilensis
Mexico | Carambola | Averrhoa carambola | Fruit | Cold treatment | Anastrepha spp. (except Anastrepha ludens) and Ceratitis capitata
Spain | Lettuce | Lactuca spp. | Above ground parts, commercial shipments only | Methyl bromide | Autographa gamma, Helicoverpa armigera, Mamestra brassicae, and Spodoptera littoralis
| Kiwi | Actinidia deliciosa | Fruit | Cold treatment | Ceratitis capitata

Treatments
Temperature | Exposure period (days)
Cold treatment for Ceratitis capitata and Anastrepha spp. (other than Anastrepha ludens)
32 °F or below | 11
33 °F or below | 13
34 °F or below | 15
35 °F or below | 17
Cold treatment for Ceratitis capitata only
32 °F or below | 10
33 °F or below | 11
34 °F or below | 12
35 °F or below | 14
36 °F or below | 16
Soapy water and wax treatment for Brevipalpus chilensis
1. Immerse fruit for 20 seconds in a soapy water bath of one part soap solution (such as Deterfruit) to 3,000 parts water.
2. Follow the soapy bath with a pressure shower rinse to remove all the soapy excess.
3. Immerse fruit for 20 seconds in an undiluted wax coating (such as Johnson's Wax Primafresh 31 Kosher Fruit coating). The wax coating should cover the entire surface of the fruit.
Methyl bromide treatment (tarpaulin or chamber) for Autographa gamma, Helicoverpa armigera, Mamestra brassicae, and Spodoptera littoralis

Temperature | Dosage rate (lb/1,000ft³) | Minimum concentration readings (ounces) at:: 0.5 hours | Minimum concentration readings (ounces) at:: 2 hours
70 °F or above | 2.0 | 26 | 14
60-69 °F | 2.5 | 32 | 24
50-59 °F | 3.0 | 38 | 29
45-49 °F | 3.5 | 43 | 34
40-44 °F | 4.0 | 48 | 38

Based on research we have evaluated and approved, we have determined that the treatments described above are effective against the specified pests.²

² Information on the research is available by contacting the person listed under FOR FURTHER INFORMATION CONTACT.

Pest risk analyses conducted by APHIS indicate that any other injurious plant pests that might be carried by the fruits and vegetables listed above would be readily detectable by a USDA inspector. As noted, the fruits and vegetables would be subject to inspection, disinfection, or both, at the port of first arrival, in accordance with § 319.56-6. Mangoes from Mexico

We are also proposing to amend the requirements in § 319.56-2x concerning mangoes from Mexico. Currently, mangoes from Mexico are eligible for importation into the United States if they are treated in accordance with the PPQ Treatment Manual.

Mangoes from Mexico are presently being treated in Mexico under the supervision of an APHIS inspector, who certifies that treatment has been performed by completing PPQ Form 203, “Foreign Site Certificate of Inspection and/or Treatment.” This form, which may only be signed by an APHIS official, must accompany the shipment of mangoes to the port of arrival in the United States.

APHIS is proposing to allow Mexico's plant health organization to certify treatment of mangoes. We plan to conduct random spot checks of mangoes that have been treated in Mexico to ensure treatment application and effectiveness. In conjunction with this change, we would require shipments of treated mangoes from Mexico to be accompanied by a phytosanitary certificate issued by Mexico's plant health organization that states that the mangoes were treated in accordance with the PPQ Treatment Manual.

Note: Under requirements proposed elsewhere in this document, mangoes grown in a fruit fly-free area listed in § 319.56-2(h) would not be required to be treated under § 319.56-2x. (See “Fruit Fly-Free Areas in Mexico,” below.)

Fruit Fly-Free Areas in Mexico

The regulations at § 319.56-2(h) list the municipalities in the Mexican States of Baja California Sur, Chihuahua, and Sonora that are recognized, in accordance with the criteria for definite areas in § 319.56-2(e)(4) and (f), as areas free of the following fruit flies: Mediterranean fruit fly (Ceratitis capitata)(Medfly), Mexican fruit fly (Anastrepha ludens), dark fruit fly (Anastrepha serpentina), West Indian fruit fly (Anastrepha obliqua), and South American fruit fly (Anastrepha fraterculus). Apples, apricots, grapefruit, oranges, peaches, persimmons, pomegranates, and tangerines may be imported from these municipalities without treatment for the listed fruit flies.

Mexico recently provided APHIS with fruit fly survey data that demonstrates that the municipalities of La Paz and Los Cabos in the State of Baja California Sur meet the criteria of § 319.56(e) and (f) for a definite area free from the fruit flies listed above. With the listing of La Paz and Los Cabos, the entire State of Baja California Sur would be a fruit fly free area, and we are proposing to list it as such in § 319.56-2(h).

In addition, we are proposing to add mangoes to the list of fruits that may be imported from these areas without treatment for the listed fruit flies. Mangoes from Mexico are currently restricted entry into the United States due the risk of fruit fly infestation. No species of fruit fly known to attack mango exists in any of the areas listed in § 319.56-2(h). Therefore, mangoes from these areas would not present a risk of fruit fly introduction. In conjunction with this change, we are also proposing to amend the entry for mangoes from Mexico in § 319.56-2x. The amended entry would make it clear that only mangoes from areas in Mexico not listed in § 319.56-2(h) are subject to treatment for fruit fly.

We are also proposing to make nonsubstantive changes to § 319.56-2(h). First, we propose to correct the spelling of the Sonoran municipalities of San Ignacio Rio Muerto and Navojoa. Second, we propose to move the list of fruits eligible for importation into the United States without treatment for fruit flies to § 319.56-2t. We would stipulate in each fruit's listing in § 319.56-2t that the fruit may only be imported without treatment if it is from an area designated in § 319.56-2(h) as free of fruit flies.

In addition to the changes just described, we propose to require that apples, apricots, grapefruit, mangoes, oranges, peaches, persimmons, pomegranates, and tangerines imported from areas designated in § 319.56-2(h) as free of fruit flies be accompanied by a phytosanitary certificate issued by the Government of Mexico stating that the fruits originated from an area listed in § 319.56-2(h). This will help distinguish that fruit from fruit that must be treated.

Mediterranean Fruit Fly-Free Areas

The regulations in § 319.56-2(j) recognize the entire country of Chile as free of Medfly. Fruits and vegetables otherwise eligible for importation into the United States under the regulations may be imported from Chile without treatment for Medfly.

Recently, Guatemala provided APHIS with trapping data that demonstrates that the Department of Petén meets the criteria of § 319.56 (e) and (f) for a definite area free from Medfly. Belize also provided APHIS with trapping data demonstrating that the entire country of Belize meets the criteria of § 319.56 (e) and (f) for a definite area free from Medfly.

We are, therefore, proposing to add Belize and the Department of Petén, Guatemala, to § 319.56-2(j).

In conjunction with this change, we propose to amend §§ 319.56-2t and 319.56-2x. Section 319.56-2t lists the areas of Belize from which papaya may be imported without treatment for Medfly. Section 319.56.2x requires treatment for papayas imported from areas of Belize not designated as Medfly-free areas. We would add all of Belize to the entry in § 319.56-2t and remove the entry for papaya from Belize from § 319.56-2x. We would also add papaya from Medfly-free areas in Guatemala to the list of fruits and vegetables in § 319.56-2t that are eligible for entry into the United States without mandatory treatment for Medfly or other special requirements. Note: Papaya from Belize and Guatemala would not be eligible for entry into Hawaii due to the existence of the papaya fruit fly in those countries.

Papaya from Central America

The regulations in § 319.56-2w provide that papayas from certain areas in Brazil and Costa Rica may be imported into the United States if they are grown, treated, packed, labeled, and shipped according to certain specifications to prevent the introduction of fruit flies into the United States.

We are proposing to allow the importation of papayas from the following areas in El Salvador, Guatemala, Honduras, Nicaragua, and Panama under those same conditions:

Country | Area(s)
El Salvador | Departments of La Libertad, La Paz, and San Vicente.
Guatemala | Departments of Escunitla, Retalhuleu, Santa Rosa, and Suchitepequez.
Honduras | Departments of Comayagua, Cortes, and Santa Barbara.
Nicaragua | Departments of Carazo, Granada, Managua, Masaya, and Rivas.
Panama | Provinces of Coclé, Herrera, and Los Santos. Districts of David, Aleanje, and Dolega in the Province of Chiriquí. All areas in Panama located west of the Panama Canal

Papayas from the areas listed above would be allowed to be imported into the United States only if they meet the following conditions:

1. The papayas were grown and packed for shipment to the United States in one of the areas listed in the table above.

This condition would ensure that papayas intended for the United States would only be grown and packed in areas where fruit fly traps are maintained and where the other elements of the systems approach described below are in place.

2. Beginning at least 30 days before harvest began and continuing through the completion of harvest, all trees in the area where the papayas were grown were kept free of papayas that were one-half or more ripe (more than one-quarter of shell surface yellow), and all culled and fallen fruit were removed from the field at least twice a week.

Papayas that are one-half or more ripe, as well as culled or fallen papayas, could serve as host material for Medfly and South American fruit fly. Therefore, this condition would greatly reduce the risk that Medfly or South American fruit fly would be attracted to the fields where papayas intended for importation into the United States are grown.

3. The papayas were treated with a hot water treatment consisting of 20 minutes in water at 49 °C (120.2 °F).

We believe that hot water treatment, in conjunction with other safeguards, would reduce the likelihood that papayas will introduce injurious plant pests into the United States.

4. When packed, the papayas were less than one-half ripe (shell surface no more than one-quarter yellow, surrounded by light green) and appeared to be free of all injurious plant pests.

This condition would also reduce the risk of introduction of Medfly or South American fruit fly, as well as other injurious plant pests, into the United States. Papayas themselves are not a preferred host for these fruit flies, and papayas that are less than one-half ripe pose very little risk of attracting Medfly or South American fruit fly.

5. The papayas were safeguarded from exposure to fruit flies from harvest to export, including being packaged so as to prevent access by fruit flies and other injurious insect pests. The package containing the papayas does not contain any other fruit, including papayas not qualified for importation into the United States.

This condition would ensure that papayas that have already been inspected and packaged for shipment to the United States would not be at risk for fruit fly infestation.

6. All cartons in which papayas are packed must be stamped “Not for importation into or distribution in HI.”

This condition would ensure that the papaya fruit fly, which is know to exist in most of the countries of Central America and the Carribean, is not introduced into Hawaii, where it is a quarantine pest.

7. All activities described in paragraphs (a) through (f) of this section were carried out under the supervision and direction of plant health officials of the national Ministry of Agriculture.

The supervision of the Ministry of Agriculture would help ensure that all of the activities required by the regulations were properly carried out.

8. Beginning at least 1 year before harvest begins and continuing through the completion of harvest, fruit fly traps were maintained in the field where the papayas were grown. The traps were placed at a rate of 1 trap per hectare and were checked for fruit flies at least once weekly by plant health officials of the national Ministry of Agriculture. Fifty percent of the traps were of the McPhail type, and fifty percent of the traps were of the Jackson type. If the average Jackson trap catch was greater than 7 Medflies per trap per week, measures were taken to control the Medfly population in the production area. The national Ministry of Agriculture kept records of fruit fly finds for each trap, updated the records each time the traps were checked, and made the records available to APHIS inspectors upon request. The records were maintained for at least 1 year.

This condition would ensure that the earliest possible detection of the presence of fruit flies in and around fields where papayas are grown can be made. If a fruit fly is trapped, the Ministry of Agriculture of the exporting country would increase the trap density in the area and, if more fruit flies are found, begin malathion bait sprays. This condition would also allow APHIS to monitor the trapping records of the area for a 1-year period.

9. If the average Jackson trap catch exceeds 14 Medflies per trap per week, importations of papayas from that production area must be halted until the rate of capture drops to an average of 7 or fewer Medflies per trap per week.

This threshold for Medfly and South American fruit fly trapping will help detect increasing populations of these fruit flies in growing areas and will help ensure that these fruit flies are not associated with imports of papayas.

10. All shipments of papayas must be accompanied by a phytosanitary certificate issued by the national Ministry of Agriculture stating that the papayas were grown, packed, and shipped in accordance with the provisions of this section.

This condition would help ensure that the provisions of the regulations have been met.

We believe that these requirements would be sufficient to prevent the introduction of fruit flies into the United States by papayas from the listed areas. The papayas would also be subject to inspection, disinfection, or both, at the port of first arrival in accordance with § 319.56-6.

Peppers From Israel

The regulations in § 319.56-2u(b) contain requirements for the importation of peppers from Israel, including the requirement that shipments of peppers must be packaged in fruit fly proof containers and be shipped only to the Tel Aviv airport for direct air export to the United States. We are proposing, at the request of the Government of Israel, to remove the requirement that the peppers be shipped only to Tel Aviv airport for direct air export to the United States. We are taking this action because we believe that insect-proof packaging is sufficient to provide protection against infestation by fruit flies and other insect pests. This would make a number of shipping alternatives available to exporters and will not result in an increased pest risk. We also propose to change the words “fruit fly-proof containers” to “insect-proof containers.”

Ya Pears From China

The regulations in § 319.56-2ee list the conditions under which Ya variety pears (fruit, Pyrus bretschneideri) may be imported into the United States from the Hebei Province of China.

We are proposing to allow Ya variety pears from the Shadong Province of China to be imported into the United States under the same conditions, which are as follows:

Ya variety pears must be grown in an APHIS-approved export growing area of the province by growers registered with the Peoples' Republic of China Ministry of Agriculture. The Ministry of Agriculture is responsible for conducting field inspections for signs of pest infestation during the growing season. The registered growers are responsible for following the phytosanitary measures agreed upon by APHIS and the Ministry of Agriculture, including applying pesticides to reduce the pest population and bagging the pears on the trees to reduce the opportunity for insect pests to attack the fruit during the growing season. The bags are required to remain on the pears through the harvest and during their movement to the packing house.

In order to prevent Ya pears intended for export to the United States from being commingled with any other fruit, the packing houses in which the pears are prepared for exportation to the United States may not be used for other fruit during the pear export season. The packing houses may accept only those pears that are still in intact bags. The pears must be loaded into containers at the packing house and the containers then sealed before movement to the port of export to prevent the fruit from being exposed to insect pests while en route to the port of export. The pears must also be cold treated for the Oriental fruit fly, Bactrocera dorsalis, in accordance with the Plant Protection and Quarantine (PPQ) Treatment Manual.

Each shipment of Ya pears must be accompanied by a phytosanitary certificate issued by the Chinese Ministry of Agriculture stating that the conditions discussed above have been met.

We believe that these growing, harvest, shipment, and treatment conditions would be adequate to prevent the introduction of Bactrocera dorsalis and other insect pests into the United States via Ya pears from the Shadong Province of China.

Peppers from New Zealand

We are proposing to allow peppers (Capsicum spp.) from New Zealand to be imported into the United States under certain conditions, which would be set forth in a new § 319.56-2hh. Because peppers can be hosts of several serious plant pests, including Helicoverpa armigera Hubner and Spodoptera litura Fabricius, we would require that the peppers be grown in insect-proof greenhouses approved by the New Zealand Ministry of Agriculture and Forestry (MAF). We would require the greenhouses to be equipped with double self-closing doors and to cover any vents or openings in the greenhouses (other than the double closing doors) with 0.6 mm screening in order to prevent the entry of pests into the greenhouse. We would also require that these greenhouses be examined periodically by MAF to ensure that the screens are intact.

In order to verify that these conditions are being met in New Zealand, we would require peppers from New Zealand to be accompanied by a phytosanitary certificate of inspection stating that the peppers were grown in greenhouses in accordance with the above conditions.

We believe that the proposed conditions described above, as well as all other applicable requirements in § 319.56-6, would be adequate to prevent the introduction of plant pests into the United States with peppers imported from New Zealand.

Miscellaneous

We are also proposing to make several minor, nonsubstantive editorial changes for clarity and consistency.

Executive Order 12866 and Regulatory Flexibility Act

This proposed rule has been reviewed under Executive Order 12866. The rule has been determined to be not significant for the purposes of Executive Order 12866 and, therefore, has not been reviewed by the Office of Management and Budget.

In accordance with 5 U.S.C. 603, we have performed an initial regulatory flexibility analysis, which is set out below, regarding the economic effects of this proposed rule on small entities. Based on the information we have, there is no basis to conclude that adoption of this proposed rule would result in any significant economic effect on a substantial number of small entities. However, we do not currently have all of the data necessary for a comprehensive analysis of the effects of this proposed rule on small entities. Therefore, we are inviting comments on potential effects. In particular, we are interested in determining the number and kind of small entities that may incur benefits or costs from the implementation of this proposed rule.

Under the Federal Plant Pest Act (7 U.S.C. 150aa-150jj) and the Plant Quarantine Act (7 U.S.C. 151-165, and 167), the Secretary of Agriculture is authorized to regulate the importation of fruits and vegetables to prevent the introduction of injurious plant pests.

We are proposing to amend the fruits and vegetables regulations to list a number of fruits and vegetables from certain parts of the world as eligible, under specified conditions, for importation into the United States. All of the fruits and vegetables, as a condition of entry, would be inspected and subject to such disinfection at the port of first arrival as may be required by a U.S. Department of Agriculture inspector. In addition, some of the fruits and vegetables would be required to meet other special conditions. This action would provide the United States with additional kinds and sources of fruits and vegetables while continuing to provide protection against the introduction and dissemination of injurious plant pests by imported fruits and vegetables.

We are also proposing to recognize two additional municipalities in the State of Baja California Sur, Mexico, as fruit fly-free areas and recognize Belize and the Department of Petén, Guatemala, as areas free of the Mediterranean fruit fly.

Availability of Data

For some of the commodities proposed for importation into the United States in this document, data on the levels of production and the anticipated import volume is unavailable for a number of reasons. Some of these commodities are not produced in significant quantities either in the United States or in the country that would be exporting the commodity to the United States; generally, less statistical data is collected—and, therefore, available—for commodities produced in small quantities when compared to a country's more heavily produced commodities. Estimates of the potential volume of exports of commodities from foreign countries to the United States are often difficult to obtain also, due in part to the uncertainty surrounding the cost and availability of transportation and the demand for the commodity in the United States.

Effects on Small Entities

Data on the number and size of U.S. producers of the various commodities proposed for importation into the United States in this document is not available. However, since most fruit and vegetable farms are small by Small Business Administration standards, it is likely that the majority of U.S. farms producing the commodities listed below are small. Potential economic effects that could occur if this proposal is adopted are discussed below by commodity and country of origin.

Oregano and Marjoram from Argentina

There are no data available regarding production of oregano and marjoram by the United States. Argentina claims to produce approximately 800 tons of oregano per year, but only exports 20 to 60 tons of that amount. If this rule is adopted, it is likely that some of those exports could be diverted to the United States. However, it is unlikely that Argentina would increase its production of oregano, and therefore, any exports to the United States would likely be minimal and would not have any significant economic effect on U.S. producers, whether small or large, or consumers. Data on production of marjoram by Argentina are not available. We are, therefore, unable to determine the effect this proposed rule would have on U.S. producers or consumers of marjoram. We are requesting the public to provide APHIS with any available data regarding production of marjoram in the United States and in Argentina.

Cole and mustard crops (brassica species) from Costa Rica and Honduras

The United States produced 1.37 million tons of Brassica spp. in 1997 and exported 46,212 tons and imported 40,604 tons in 1999. Any imports of Brassica spp. from Costa Rica that would result if this rule is adopted are likely to be only a small fraction of domestic production and have a negligible economic effect on domestic producers and consumers. Honduras produced 259 tons of cole crops in 1998 and exported 171 tons to other Central American countries. Honduras could potentially expand production and export up to 330 tons to the United States if there is sufficient market demand. However, potential imports from Honduras represent only .024 percent of domestic production and .8 percent of current imports and would not have a measurable effect on either U.S. consumers or producers.

Marjoram from Peru

There is no data available regarding production of marjoram by the United States or Peru. We are, therefore, unable to determine the effect this proposed rule would have on U.S. producers or consumers of marjoram. We are requesting the public to provide APHIS with any available data regarding production of marjoram in the United States and in Peru.

Eggplant from Spain

The United States produced 36,900 tons of eggplant in 1997 and, in 1999, exported over 12,000 tons and imported 35,669 tons. Imports of eggplant from Spain that could result if this proposed rule is adopted could total 1,000 tons per year, representing 2.8 percent of U.S. imports in 1999 and 2.7 percent of U.S. production in 1997. Therefore, imports of eggplant from Spain are unlikely to have a significant economic effect on U.S. consumers or producers.

Lettuce from Spain

The United States produced 3.4 million tons of lettuce in 1997, and, in 1999, exported over 196,000 tons and imported only 14,000 tons. The peak lettuce growing season in Spain would roughly correspond to U.S. production seasons. Imports of lettuce from Spain that could result if this proposed rule is adopted could total 2,500 tons, representing a 17 percent increase in imports, but only .07 percent of U.S. production in 1997. Therefore, imports of lettuce from Spain that could result if this proposed rule is adopted are unlikely to have a significant economic effect on U.S. consumers or producers.

Watermelon from Spain

The United States produced 2.03 million tons of watermelon in 1997 and imported 240,302 tons of watermelon in 1999. The amount projected to be imported from Spain represents only 1.04 percent of U.S. imports in 1999 and .12 percent of U.S. production in 1997. Therefore, it is unlikely that imports of watermelon from Spain will have a significant economic effect on domestic producers or consumers.

Kiwi from Argentina and Spain

The United States produced 39,400 tons of kiwi in 1997 and, in 1999, imported over 49,000 tons while exporting 14,792 tons. Data on potential kiwi imports from Argentina are not available. We are requesting the public to provide us with any data related to the potential imports of kiwi from Argentina that could result if this proposal is adopted. Data on potential kiwi imports from Spain are not available, but the amount is expected to be small and should not have a significant economic effect on U.S. consumers or producers.

Passion Fruit from Chile

There is no data available regarding production of passion fruit by the United States or Chile. We are, therefore, unable to determine the effect this proposed rule would have on U.S. producers or consumers of passion fruit. We are requesting the public to provide APHIS with any available data regarding production of passion fruit in the United States and in Chile.

Carambola from Mexico

There is no data available regarding production of carambola by the United States. Mexico's Center for Agricultural Statistics does not believe that there are any commercial carambola production areas in Mexico. Therefore, imports of carambola from Mexico are unlikely to have any measurable economic effect on U.S. producers or consumers.

Papaya from Belize, El Salvador, Guatemala, Honduras, Nicaragua, and Panama

The United States produced 20,500 tons of papaya in 1997 and, in 1999, imported over 73,000 tons and exported 6,533 tons. The top exporters of papaya to the United States were Mexico with 61,619 tons, Belize with 4,188 tons, Jamaica with 2,094 tons, the Dominican Republic with 1,212 tons, and Costa Rica with 771 tons.

If this proposed rule is adopted, we estimate papaya imports of 330 tons from El Salvador, 660 tons from Guatemala, and up to 840 tons from Panama. These volumes of imports are insignificant when compared to domestic production and other papaya imports. Imports of papaya from El Salvador would represent 1.6 percent of U.S. domestic production and less than one-half of 1 percent of U.S. papaya imports. Imports of papaya from Guatemala would represent 3.2 percent of U.S. domestic production and less than 1 percent of U.S. papaya imports. Imports of papaya from Panama would represent 4 percent of domestic production and 1.1 percent of U.S. papaya imports. However, most papayas now grown in Panama are not suitable for export, since they are large, with soft skin. Only four growers are currently planting Solo variety of papayas of exportable quality, and of those, only one has fruit ready to export at this time.

Honduras currently produces 184 tons of papaya and exports 129 tons, but estimates that it could produce and export up to 2,200 tons of papayas (75 percent fresh, 25 percent processed) to the United States if a market for the papayas exists. To export such a volume of papayas to the United States, Honduras would have to increase production by almost 12 times the current level. It is unlikely that such exports would be forthcoming in the foreseeable future, and even if Honduras could export 2,200 tons of papayas to the United States, that amount represents only 3 percent of current papaya imports.

Data on potential imports of papayas from Nicaragua are not available.

Papayas from certain areas in Belize are allowed to be imported into the United States without treatment for Medfly, while papayas from other areas in Belize are required to be treated for Medfly prior to shipment to the United States. This proposed rule would add Belize and Department of Petén, Guatemala, to the list of areas recognized as free of Medfly, thereby eliminating treatment requirements for papaya imported into the United States from any area in Belize or the Department of Petén, Guatemala. However, it is unlikely that this change to the regulations would have a significant effect on the volume of papaya currently exported by Belize or the potential exports by Guatemala that are described above.

U.S. consumers could benefit from expanded choice and potentially lower prices for papaya that could result if the proposed rule is adopted.

Mangoes from Mexico

Currently, mangoes from Mexico are required to be treated for fruit flies prior to importation into the United States. This proposal would add mangoes from certain areas in Mexico to the list of fruits that may be imported into the United States without treatment for fruit flies.

Mexico exported 13,800 tons of mangoes to the United States in 1998 and 11,800 tons in 1999. These exports accounted for 78 and 44 percent of U.S. mango imports for 1998 and 1999, respectively. It is unlikely that removing treatment requirements for mangoes imported from areas listed in § 319.56-2(h) as fruit fly-free areas would measurably reduce the costs of exporting mangoes to the United States or the cost of mangoes in the United States.

Peppers from Israel

In 1999, Israel shipped 15.7 tons of peppers to the United States, accounting for only .046 percent of peppers imported by the United States in that year. Allowing peppers to be shipped through ports other than Tel Aviv is not expected to result in an increase in the volume of peppers exported by Israel and, therefore, would not have any measurable economic effect on U.S. producers or consumers.

Ya Pears from China

China exported 15.7 tons of pears to the United States in 1998 and 749 tons in 1999, representing .056 percent and 1.58 percent of the total U.S. imports of pears for those years, respectively. Data on the percentage or amount of China's exports that were Ya variety pears are not available, and we are unable to determine the additional volume of Ya pears that could be exported to the United States from the Shadong Province of China if this proposed rule is adopted. We have requested information on potential Ya pear exports from China and welcome any data that may be supplied by the public during the comment period for this proposed rule.

Peppers from New Zealand

The United States produced 838,650 tons of peppers in 1997. New Zealand exported 1,600 tons of peppers for the year ending June 1999—a 28 percent increase over the previous year. The United States is potentially a major market for this commodity from New Zealand. However, any imports of peppers from New Zealand would represent a negligible amount of U.S. production and would have an insignificant economic effect on domestic producers and consumers, since New Zealand's exports of 1,600 tons represent less than .2 percent of U.S. production.

This proposed rule contains information collection requirements, which have been submitted for approval to the Office of Management and Budget (see “Paperwork Reduction Act” below).

Executive Order 12988

This proposed rule would allow certain fruits and vegetables to be imported into the United States from certain parts of the world. If this proposed rule is adopted, State and local laws and regulations regarding the importation of fruits and vegetables would be preempted while the fruits and vegetables are in foreign commerce. Fresh fruits and vegetables are generally imported for immediate distribution and sale to the consuming public and would remain in foreign commerce until sold to the ultimate consumer. The question of when foreign commerce ceases in other cases must be addressed on a case-by-case basis. If this proposed rule is adopted, no retroactive effect will be given to this rule, and this rule will not require administrative proceedings before parties may file suit in court challenging this rule.

Paperwork Reduction Act

In accordance with section 3507(d) of the Paperwork Reduction Act of 1995 (44 U.S.C. 3501 et seq.), the information collection or recordkeeping requirements included in this proposed rule have been submitted for approval to the Office of Management and Budget (OMB). Please send written comments to the Office of Information and Regulatory Affairs, OMB, Attention: Desk Officer for APHIS, Washington, DC 20503. Please state that your comments refer to Docket No. 00-006-1. Please send a copy of your comments to: (1) Docket No. 00-006-1, Regulatory Analysis and Development, PPD, APHIS, suite 3C03, 4700 River Road Unit 118, Riverdale, MD 20737-1238, and (2) Clearance Officer, OCIO, USDA, room 404-W, 14th Street and Independence Avenue, SW., Washington, DC 20250. A comment to OMB is best assured of having its full effect if OMB receives it within 30 days of publication of this proposed rule.

In this document, we are proposing to allow a number of fruits and vegetables from certain countries of the world to be imported into the United States, under specified conditions. Before entering the United States, all of the fruits and vegetables would be subject to inspection and disinfection at the port of first arrival in the United States to ensure that no plant pests are inadvertently brought into the United States. These precautions, along with other requirements, would ensure that these items can be imported into United States with a minimal risk of introducing exotic plant pests such as fruit flies.

Allowing these fruits and vegetables to be imported will necessitate the use of certain information collection activities, including the completion of import permits, phytosanitary certificates, and fruit fly monitoring records.

We are soliciting comments from the public (as well as affected agencies) concerning our proposed information collection and recordkeeping requirements. These comments will help us:

(1) Evaluate whether the proposed information collection is necessary for the proper performance of our agency's functions, including whether the information will have practical utility;

(2) Evaluate the accuracy of our estimate of the burden of the proposed information collection, including the validity of the methodology and assumptions used;

(3) Enhance the quality, utility, and clarity of the information to be collected; and

(4) Minimize the burden of the information collection on those who are to respond (such as through the use of appropriate automated, electronic, mechanical, or other technological collection techniques or other forms of information technology; e.g., permitting electronic submission of responses).

Estimate of burden: Public reporting burden for this collection of information is estimated to average 20 minutes per response.

Respondents: U.S. importers of fruits and vegetables; plant health officials of exporting countries.

Estimated annual number of respondents: 150.

Estimated annual number of responses per respondent: 453.

Estimated annual number of responses: 11,400.

Estimated total annual burden on respondents: 3,200 hours.

Copies of this information collection can be obtained from: Ms. Cheryl Groves, APHIS' Information Collection Coordinator, at (301) 734-5086.

List of Subjects

7 CFR Part 300

Incorporation by reference, Plant diseases and pests, Quarantine.

7 CFR Part 319

Bees, Coffee, Cotton, Fruits, Honey, Imports, Incorporation by reference, Nursery Stock, Plant diseases and pests, Quarantine, Reporting and recordkeeping requirements, Rice, Vegetables.

Accordingly, we propose to amend 7 CFR parts 300 and 319 as follows:

PART 300—INCORPORATION BY REFERENCE

1. The authority citation for part 300 would be revised to read as follows:

Authority: Title IV, Pub. L. 106-224, 114 Stat. 438, 7 U.S.C. 7701-7772; 7 CFR 2.22, 2.80, and 371.3.

2. In § 300.1, paragraph (a), the introductory text would be revised to read as follows:

§ 300.1 Materials incorporated by reference.

(a) Plant Protection and Quarantine Treatment Manual. The Plant Protection and Quarantine Treatment Manual, which was reprinted November 30, 1992, and includes all revisions through [date], has been approved for incorporation by reference in 7 CFR chapter III by the Director of the Office of the Federal Register in accordance with 5 U.S.C. 552(a) and 1 CFR part 51.

* * * * *

PART 319—FOREIGN QUARANTINE NOTICES

3. The authority citation for part 319 would be revised to read as follows:

Authority: Title IV, Pub. L. 106-224, 114 Stat. 438, 7 U.S.C. 7701-7772; 7 U.S.C. 450; 21 U.S.C. 136 and 136a; 7 CFR 2.22, 2.80, and 371.3.

4. In § 319.56-2, by revising paragraphs (h) and (j) to read as follows.

§ 319.56-2 Restrictions on entry of fruits and vegetables.

* * * * *

(h) The Administrator has determined that the following areas in Mexico meet the criteria of paragraphs (e) and (f) of this section with regard to the plant pests Ceratitis capitata, Anastrepha ludens, A. serpentina, A. obliqua, and A. fraterculus: The entire State of Baja California Sur; the municipalities of Bachiniva, Casas Grandes, Cuahutemoc, Guerrero, Namiquipa, and Nuevo Casas Grandes in the State of Chihuahua; and the municipalities of Altar, Atil, Bacum, Benito Juarez, Caborca, Cajeme, Carbo, Empalme, Etchojoa, Guaymas, Hermosillo, Huatabampo, Navojoa, Pitiquito, Plutarco Elias Calles, Puerto Penasco, San Luis Rio Colorado, San Miguel, and San Ignacio Rio Muerto in the State of Sonora. Fruits and vegetables otherwise eligible for importation under this subpart may be imported from these areas without treatment for the pests named in this paragraph.

* * * * *

(j) The Administrator has determined that all Provinces in Chile, all districts in Belize, and the Department of Petén, Guatemala, meet the criteria of § 319.56-2 (e) and (f) with regard to the insect pest Mediterranean fruit fly (Medfly) (Ceratitis capitata) (Wiedemann). Fruits and vegetables otherwise eligible for importation under this subpart may be imported from these areas without treatment for Medfly.

* * * * *

5. In § 319.56-2t, the table would be amended as follows:

a. Under Argentina, by revising the entry for “Artichoke, globe”.

b. Under Belize, by revising the entry for “Papaya”.

c. Under Mexico, by placing the entry for “Arugula” in alphabetical order.

d. By adding, in alphabetical order, entries for marjoram and oregano from Argentina; cole and mustard crops from Costa Rica and Honduras; papaya from Guatemala; apple, apricot, grapefruit, mango, orange, peach, persimmon, pomegranate, and tangerine from Mexico; peppers from New Zealand; marjoram from Peru; and eggplant and watermelon from Spain.

§ 319.56-2t Administrative instructions: conditions governing the entry of certain fruits and vegetables.

* * * * *

Country/locality | Common name | Botanical name | Plant part(s)
Argentina | Artichoke, globe | Cynara scolymus | Immature flower head.
* * * * * * *
| Marjoram | Origanum spp. | Above ground parts.
| Oregano | Origanum spp. | Above ground parts.
* * * * * * *
Belize
* * * * * * *
| Papaya | Carica papaya | Fruit (from Medfly-free areas see § 319.56-2(j). Fruit must be accompanied by a phytosanitary certificate issued by the Belize department of agriculture stating that the fruit originated in a Medfly-free area listed in § 319.56-2(j).) Papayas are prohibited entry into Hawaii due to papaya fruit fly. Cartons in which fruit is packed must be stamped “Not for importation into or distribution within HI.”
* * * * * * *
Costa Rica
* * * * * * *
| Cole and mustard crops, including cabbages, broccoli, cauliflower, turnips, mustards, and related varieties | Brassica spp. | Whole plant of edible varieties only.
* * * * * * *
Guatemala
* * * * * * *
| Papaya | Carica papaya | Fruit (from Medfly-free areas see § 319.56-2(j). Fruit must be accompanied by a phytosanitary certificate issued by the Guatemalan department of agriculture stating that the fruit originated in a Medfly-free area listed in § 319.56-2(j).) Papayas are prohibited entry into Hawaii due to papaya fruit fly. Cartons in which fruit is packed must be stamped “Not for importation into or distribution within HI.”
* * * * * * *
Honduras
* * * * * * *
| Cole and mustard crops, including cabbages, broccoli, cauliflower, turnips, mustards, and related varieties | Brassica spp. | Whole plant of edible varieties only.
* * * * * * *
Mexico
* * * * * * *
| Apple | Malus domestica | Fruit (from fruit fly-free areas see § 319.56-2(h). Fruit must be accompanied by a phytosanitary certificate issued by the Mexican department of agriculture stating: “These regulated articles originated from an area free from pests as designated in § 319.56-2(h).”)
| Apricot | Prunus armeniaca | Fruit (from fruit fly-free areas see § 319.56-2(h). Fruit must be accompanied by a phytosanitary certificate issued by the Mexican department of agriculture stating: “These regulated articles originated from an area free from pests as designated in § 319.56-2(h).”)
* * * * * * *
| Grapefruit | Citrus paradisi | Fruit (from fruit fly-free areas see § 319.56-2(h). Fruit must be accompanied by a phytosanitary certificate issued by the Mexican department of agriculture stating: “These regulated articles originated from an area free from pests as designated in § 319.56-2(h).”)
* * * * * * *
| Mango | Mangifera indica | Fruit (from fruit fly-free areas see § 319.56-2(h). Fruit must be accompanied by a phytosanitary certificate issued by the Mexican department of agriculture stating: “These regulated articles originated from an area free from pests as designated in § 319.56-2(h).”)
| Orange | Citrus sinensis | Fruit (from fruit fly-free areas see § 319.56-2(h). Fruit must be accompanied by a phytosanitary certificate issued by the Mexican department of agriculture stating: “These regulated articles originated from an area free from pests as designated in § 319.56-2(h).”)
| Peach | Prunus persica | Fruit (from fruit fly-free areas see § 319.56-2(h). Fruit must be accompanied by a phytosanitary certificate issued by the Mexican department of agriculture stating: “These regulated articles originated from an area free from pests as designated in § 319.56-2(h).”)
| Persimmon | Diospyros spp. | Fruit (from fruit fly-free areas see § 319.56-2(h). Fruit must be accompanied by a phytosanitary certificate issued by the Mexican department of agriculture stating: “These regulated articles originated from an area free from pests as designated in § 319.56-2(h).”)
* * * * * * *
| Pomegranate | Punica granatum | Fruit (from fruit fly-free areas see § 319.56-2(h). Fruit must be accompanied by a phytosanitary certificate issued by the Mexican department of agriculture stating: “These regulated articles originated from an area free from pests as designated in § 319.56-2(h).”)
* * * * * * *
| Tangerine | Citrus reticulata | Fruit (from fruit fly-free areas see § 319.56-2(h). Fruit must be accompanied by a phytosanitary certificate issued by the Mexican department of agriculture stating: “These regulated articles originated from an area free from pests as designated in § 319.56-2(h).”)
* * * * * * *
Peru
* * * * * * *
| Marjoram | Origanum spp. | Above ground parts.
* * * * * * *
Spain | Eggplant | Solanum melongena | Fruit, commercial shipments only.
* * * * * * *
| Watermelon | Citrullus vulgaris | Fruit, commercial shipments only.
* * * * * * *

* * * * *

6. In § 319.56-2u, paragraph (b)(7) would be revised to read as follows and paragraph (b)(8) would be removed:

§ 319.56-2u Conditions governing the entry of lettuce and peppers from Israel.

* * * * *

(b) * * *

(7) The peppers must be packed in insect-proof containers prior to movement from approved insect-proof screenhouses in the Arava Valley.

7. Section 319.56-2w would be amended by revising the heading, the introductory text, and paragraph (a) to read as follows:

§ 319.56-2w Administrative instruction; conditions governing the entry of papayas from Central America and Brazil.

The Solo type of papaya may be imported into the continental United States, Alaska, Puerto Rico, and the U.S. Virgin Islands only under the following conditions:

(a) The papayas were grown and packed for shipment to the United States in one of the following locations:

(1) Brazil: State of Espirito Santo.

(2) Costa Rica: Provinces of Guanacaste, Puntarenas, San Jose.

(3) El Salvador: Departments of La Libertad, La Paz, and San Vicente.

(4) Guatemala: Departments of Escuintla, Retalhuleu, Santa Rosa, and Suchitepéquez.

(5) Honduras: Departments of Comayagua, Cortés, and Santa Bárbara.

(6) Nicaragua: Departments of Carazo, Granada, Managua, Masaya, and Rivas.

(7) Panama: Provinces of Coclé, Herrera, and Los Santos; Districts of Aleanje, David, and Dolega in the Province of Chiriquí and all areas in the Province of Panama that are west of the Panama Canal.

* * * * *

8. In § 319.56-2x, the table would be amended as follows:

a. By removing the entry for Belize.

b. By adding, in alphabetical order, entries for kiwi from Argentina, passion fruit from Chile, and carambola from Mexico.

c. Under Mexico, by revising the entry for “mango”.

d. By adding a new entry for Spain.

§ 319.56-2x Administrative instructions; conditions governing the entry of certain fruits and vegetables for which treatment is required.

* * * * *

Country/locality | Common name | Botanical name | Plant part(s)
Argentina
* * * * * * *
| Kiwi | Actinidia deliciosa | Fruit.
* * * * * * *
Chile
* * * * * * *
| Passion fruit | Passiflora spp. | Fruit.
* * * * * * *
Mexico | Carambola | Averrhoa carambola | Fruit.
* * * * * * *
| Mango | Mangifera indica | Fruit. (Must be accompanied by a phytosanitary certificate issued by the Mexican department of agriculture stating: “These mangoes were treated in accordance with the Plant Protection and Quarantine Treatment Manual”, unless fruit was grown in a fruit fly-free area listed in § 319.56-2(h).)
* * * * * * *
Spain | Kiwi | Actinidia deliciosa | Fruit.
| Lettuce | Lactuca spp. | Above ground parts, commercial shipments only.
* * * * * * *

* * * * *

§ 319.56-2ee [Amended]

9. In § 319.56-2ee, paragraph (a) would be amended by removing the words “Hebei Province” and inserting in their place the words “the Hebei or Shadong Provinces”.

10. A new § 319.56-2hh would be added to read as follows:

§ 319.56-2hh Conditions governing the entry of peppers from New Zealand.

(a) Peppers from New Zealand may be imported into the United States only under the following conditions:

(1) Peppers must be grown in New Zealand in insect-proof greenhouses approved by the New Zealand Ministry of Agriculture and Forestry (MAF).

(2) The greenhouses must be equipped with double self-closing doors, and any vents or openings in the greenhouses (other than the double closing doors) must be covered with 0.6 mm screening in order to prevent the entry of pests into the greenhouse.

(3) The greenhouses must be examined periodically by MAF to ensure that the screens are intact.

(4) Each shipment of peppers must be accompanied by a phytosanitary certificate of inspection issued by the Ministry of Agriculture and Forestry of New Zealand bearing the following declaration: “These peppers were grown in greenhouses in accordance with the conditions in § 319.56-2hh.”

Done in Washington, DC, this 15th day of August 2000.
Bobby R. Acord,
Acting Administrator, Animal and Plant Health Inspection Service.

[FR Doc. 00-21174 Filed 8-18-00; 8:45 am]

BILLING CODE 3410-34-U